DEPARTMENT OF LABOR

Employment and Training Administration

[TA-W-54,077]

Twin City Leather Company, Gloversville, New York; Notice of Termination of Investigation

Pursuant to section 221 of the Trade Act of 1974, as amended, an investigation was initiated on January 26, 2004 in response to a petition filed by a representative of the Union of Needletrades, Industrial and Textile Employees on behalf of workers at Twin City Leather Company, Inc., Gloversville, New York.

The petitioning group of workers is covered by an earlier petition instituted on January 13, 2004 (TA-W-53,992) that is the subject of an ongoing investigation for which a determination has not yet been issued. Further investigation in this case would duplicate efforts and serve no purpose; therefore the investigation under this petition has been terminated.

Signed at Washington, DC, this 6th day of February, 2004.
Richard Church,
Certifying Officer, Division of Trade Adjustment Assistance.

[FR Doc. 04-3925 Filed 2-23-04; 8:45 am]

BILLING CODE 4510-30-P